DEPARTMENT OF COMMERCE

Foreign-Trade Zones Board

[B-7-2022]

Foreign-Trade Zone (FTZ) 75—Phoenix, Arizona; Authorization of Production Activity; Sunlit Arizona LLC (Specialty Chemicals for Microchip Production); Phoenix, Arizona

On March 3, 2022, Sunlit Arizona LLC submitted a notification of proposed production activity to the FTZ Board for its facility within FTZ 75, in Phoenix, Arizona.

The notification was processed in accordance with the regulations of the FTZ Board (15 CFR part 400), including notice in the Federal Register inviting public comment (87 FR 13963, March 11, 2022). On July 1, 2022, the applicant was notified of the FTZ Board's decision that no further review of the activity is warranted at this time. The production activity described in the notification was authorized, subject to the FTZ Act and the FTZ Board's regulations, including Section 400.14.

Dated: July 1, 2022.
Elizabeth Whiteman,
Acting Executive Secretary.

[FR Doc. 2022-14479 Filed 7-6-22; 8:45 am]

BILLING CODE 3510-DS-P